DEPARTMENT OF HEALTH AND HUMAN SERVICES

National Institutes of Health

National Institute of Neurological Disorders and Stroke; Amended Notice of Meeting

Notice is hereby given of a change in the meeting of the Neurological Sciences and Disorders A, February 17, 2000, 7:30 p.m. to February 19, 2000, 5:00 p.m., Ramada Inn Rockville, 1775 Rockville Pike, Rockville, MD 20852 which was published in the Federal Register on January 11, 2000, 65 FR 1642.

The meeting will be held February 17, 2000, 8:00 a.m. to February 18, 2000, 5:00 p.m. The meeting will is closed to the public.

Dated: January 18, 2000.
LaVerne Y. Stringfield,
Director, Office of Federal Advisory Cmte. Policy.

[FR Doc. 00-1686 Filed 1-24-00; 8:45 am]

BILLING CODE 4140-01-M